DEPARTMENT OF COMMERCE

International Trade Administration

[A-570-601]

Tapered Roller Bearings and Parts Thereof, Finished and Unfinished, From the People's Republic of China: Initiation of Antidumping Duty New Shipper Review

AGENCY: Import Administration, International Trade Administration, Department of Commerce.

SUMMARY: The Department of Commerce (Department) has determined that Shanghai Tainai Bearing Co., Ltd.'s (Tainai's) request for a new shipper review (NSR) of the antidumping duty order on tapered roller bearings and parts thereof, finished and unfinished (TRBs), from the People's Republic of China (PRC) meets the statutory and regulatory requirements for initiation. The period of review (POR) for this NSR is June 1, 2012, through May 31, 2013.

DATES: As of July 30, 2013.

FOR FURTHER INFORMATION CONTACT: Elizabeth Eastwood or Stephen Banea, AD/CVD Operations, Office 2, Import Administration, International Trade Administration, U.S. Department of Commerce, 14th Street and Constitution Avenue NW., Washington, DC 20230; telephone: (202) 482-3874 or (202) 482-0656, respectively.

SUPPLEMENTARY INFORMATION:

Background

On June 15, 1987, the Department published in the Federal Register the antidumping duty order on TRBs from the PRC.¹ On June 21, 2013, pursuant to section 751(a)(2)(B)(i) of the Tariff Act of 1930, as amended (the Act), the Department received a properly filed NSR request from Tainai during the anniversary month ² of the antidumping duty order.

¹ See Antidumping Duty Order; Tapered Roller Bearings and Parts Thereof, Finished or Unfinished, From the People's Republic of China, 52 FR 22667 (June 15, 1987).

² See Antidumping or Countervailing Duty Order, Finding, or Suspended Investigation; Opportunity to Request Administrative Review, 78 FR 33061 (June 3, 2013).

In its request, Tainai certified that it is both a producer and exporter of TRBs from the PRC. Pursuant to section 751(a)(2)(B)(i)(I) of the Act and 19 CFR 351.214(b)(2)(i), Tainai certified that it did not export TRBs to the United States during the period of investigation (POI).³ In addition, pursuant to section 751(a)(2)(B)(i)(II) of the Act and 19 CFR 351.214(b)(2)(iii)(A), Tainai certified that, since the initiation of the investigation, it has never been affiliated with any PRC exporter or producer who exported TRBs to the United States during the POI, including those respondents not individually examined during the investigation.⁴ As required by 19 CFR 351.214(b)(2)(iii)(B), Tainai also certified that its export activities were not controlled by the government of the PRC.⁵

³ See Tainai's June 21, 2013, submission, at Exhibit 1.

⁴ Id.

⁵ Id.

In addition to the certifications described above, pursuant to 19 CFR 351.214(b)(2)(iv)(A), (B) and (C), Tainai submitted documentation establishing the following: (1) The date on which Tainai first shipped TRBs for export to the United States and the date on which the TRBs were first entered; (2) the volume of its first shipment; and (3) the date of its first sale to an unaffiliated customer in the United States.⁶

⁶ See Tainai's June 21, 2013, submission, at Exhibit 2.

The Department conducted U.S. Customs and Border Protection (CBP) database queries in an attempt to confirm that Tainai's shipment of subject merchandise had entered the United States for consumption and that liquidation of this entry had been properly suspended for antidumping duties. The Department also examined whether the CBP data confirmed that this entry was made during the POR. The information the Department examined was consistent with that provided by Tainai. After the initiation of the NSR, the Department intends to place additional CBP data on the record and, if necessary, request additional information from Tainai.

Period of Review

In accordance with 19 CFR 351.214(g)(1)(i)(A), the POR for an NSR initiated in the month immediately following the anniversary month will be the twelve-month period immediately preceding the anniversary month. Therefore, the POR for this NSR is June 1, 2012, through May 31, 2013. Based on the information provided by Tainai, the sale and entry into the United States of subject merchandise produced and exported by Tainai occurred during this twelve-month POR.

Initiation of New Shipper Review

Pursuant to section 751(a)(2)(B) of the Act, 19 CFR 351.214(b), 19 CFR 351.214(d)(1), and the information on the record, the Department finds that Tainai meets the threshold requirements for initiation of an NSR for shipments of TRBs from the PRC produced and exported by Tainai.⁷ If the information supplied by Tainai cannot be verified using CBP import data, or is otherwise found to be incorrect or insufficient during the course of this proceeding, the Department may rescind the review or apply facts available pursuant to section 776 of the Act, depending on the facts on record.

⁷ See Memorandum to the File from Stephen Banea, International Trade Compliance Analyst, Office 2, AD/CVD Operations, entitled “Tapered Roller Bearings and Parts Thereof, Finished and Unfinished, from the People's Republic of China: Initiation of New Shipper Review,” dated concurrently with this notice.

The Department intends to issue the preliminary results of this NSR no later than 180 days from the date of initiation, and the final results no later than 270 days from the date of initiation, pursuant to section 751(a)(2)(B)(iv) of the Act.

It is the Department's usual practice, in cases involving non-market economy countries, to require that a company seeking to establish eligibility for an antidumping duty rate separate from the country-wide rate provide evidence of de jure and de facto absence of government control over the company's export activities. Accordingly, we will issue a questionnaire to Tainai, which will include a section requesting information concerning Tainai's eligibility for a separate rate. The review will proceed if the response provides sufficient indication that Tainai is not subject to either de jure or de facto government control with respect to its export of subject merchandise.

We will instruct CBP to allow, at the option of the importer, the posting, until the completion of the review, of a bond or security in lieu of a cash deposit for each entry of the subject merchandise from Tainai in accordance with section 751(a)(2)(B)(iii) of the Act and 19 CFR 351.214(e). The bonding privilege will only apply to entries of subject merchandise both produced and exported by Tainai.

To assist in its analysis of the bona fides of Tainai's sales, upon initiation of this NSR, the Department will require Tainai to submit on an ongoing basis complete transaction information concerning any sales of subject merchandise to the United States that were made subsequent to the POR.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: July 24, 2013.
Christian Marsh,
Deputy Assistant Secretary for Antidumping and Countervailing Duty Operations.

[FR Doc. 2013-18304 Filed 7-29-13; 8:45 am]

BILLING CODE 3510-DS-P